DEPARTMENT OF EDUCATION

[Docket No.: ED-2023-SCC-0138]

Agency Information Collection Activities; Submission to the Office of Management and Budget for Review and Approval; Comment Request; Report of Children Receiving Early Intervention Services in Accordance With Part C; Report of Program Settings in Accordance With Part C; Report on Infants and Toddlers Exiting Part C

AGENCY: Office of Special Education and Rehabilitative Services (OSERS), Department of Education (ED).

ACTION: Notice.

SUMMARY: In accordance with the Paperwork Reduction Act (PRA) of 1995, the Department is proposing a revision of a currently approved information collection request (ICR).

DATES: Interested persons are invited to submit comments on or before December 21, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Amy Bae, 202-987-1557.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Report of Children Receiving Early Intervention Services in Accordance With Part C; Report of Program Settings in Accordance with Part C; Report on Infants and Toddlers Exiting Part C.

OMB Control Number: 1820-0557.

Type of Review: A revision of a currently approved ICR.

Respondents/Affected Public: State, local, and Tribal governments.

Total Estimated Number of Annual Responses: 56.

Total Estimated Number of Annual Burden Hours: 6,410.

Abstract: This is a request for revision of the approved Information Collection 1820-0557—Report of Children Receiving Early Intervention Services in Accordance With Part C; Report of Program Settings Where Early Intervention Services are Provided to Children With Disabilities and Their Families in Accordance to Part C; Report on Infants and Toddlers Exiting Part C Section 618 of the Individuals with Disabilities Education Act (IDEA), Public Law 108-446, directs the Secretary of Education to obtain data on: (1) the number and percentage of infants and toddlers with disabilities, by race, ethnicity, and gender, who are receiving early intervention services; (2) the number and percentage of infants and toddlers, by race and ethnicity, who are at risk of having substantial developmental delays (as described in Section 632), and who are receiving early intervention services under Part C; and (3) the number and percentage of children with disabilities, by race, ethnicity, and gender, who, from birth through age 2, stopped receiving early intervention services because of program completion or for other reasons. The specific legislative authority for these data collections may be found in section 618(a)(1)(B), section 618(a)(1)(C), section 618(a)(2) and section 618(a)(3). The purposes of such data are: (1) to assess the progress, impact, and effectiveness of State and local efforts to implement the legislation and (2) to provide Congress, the public, and Federal, State, and local educational agencies with relevant information. OSEP also uses these data for monitoring activities, planning purposes, congressional reporting, and disseminating data to individuals and groups. This revision adds meta data questions to the Report on Infants and Toddlers Exiting Part C and the Report of Children Receiving Early Intervention Services in Accordance with Part C, as well as technical edits to the Report of Program Settings Where Early Intervention Services Are Provided.

Dated: November 15, 2023.
Juliana Pearson,
PRA Coordinator, Strategic Collections and Clearance, Governance and Strategy Division, Office of Chief Data Officer, Office of Planning, Evaluation and Policy Development.

[FR Doc. 2023-25651 Filed 11-20-23; 8:45 am]

BILLING CODE 4000-01-P